DEPARTMENT OF HEALTH AND HUMAN SERVICES

Administration for Children and Families

Submission for OMB Review; Comment Request

Title: State Self-Assessment Review and Report.

OMB No.: 0970-0223.

Description: The information to be collected from states includes statistics on specific criteria. This information is to be provided in the form of a report submitted annually to the Secretary of the Department of Health and Human Services. It is required by the Personal Responsibility and Work Opportunity Reconciliation Act of 1996, as a substitute for process audits and will be used to determine if states are complying with specified child support requirements.

Respondents: State Child Support Enforcement Agencies or the Department/Agency/Bureau responsible for Child Support Enforcement in each state.

Annual Burden Estimates:

Insrument | Number of respondents | Number of responses per respondent | Average burden hours per response | Total burden hours
Report | 54 | 1 | 3,866 | 208,764

Estimated Total Annual Burden Hours: 208,764.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: katherine_t._astrich@omb.eop.gov.

Dated: January 29, 2004.
Robert Sargis,
Reports Clearance Officer.

[FR Doc. 04-2170 Filed 2-2-04; 8:45 am]

BILLING CODE 4184-01-M